INTERNATIONAL TRADE COMMISSION

[Investigation No. 337-TA-853]

Certain Wireless Consumer Electronics Devices and Components Thereof; Commission Determination Concerning an Initial Determination Granting a Motion To Amend Complaint and Notice of Investigation

AGENCY: U.S. International Trade Commission.

ACTION: Notice.

SUMMARY: Notice is hereby given that the U.S. International Trade Commission did not determine to review the presiding administrative law judge's (“ALJ”) initial determination (“ID”) (Order No. 17) granting a motion of complainants Technology Properties Limited LLC and Phoenix Digital Solutions LLC of Cupertino, California and Patriot Scientific Corporation of Carlsbad, California (collectively “Complainants”) to amend the Complaint and Notice of Investigation (“NOI”). The ID therefore became the determination of the Commission.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 24, 2012, based on a complaint filed by Complainants. 77 FR 51572-573 (August 24, 2012). The complaint alleges violations of Section 337 of the Tariff Act of 1930, as amended, 19 U.S.C. 1337, by reason of infringement of certain claims of U.S. Patent No. 5,809,336. The complaint further alleges the existence of a domestic industry. The Commission's notice of investigation named numerous respondents, including Huawei Technologies Co, Ltd. of Shenzhen, China (“Huawei”); Huawei North America of Plano, Texas (“Huawei North America”); Sierra Wireless, Inc. of British Columbia, Canada and Sierra Wireless America, Inc. of Carlsbad, California (collectively “Sierra”). The Office of Unfair Import Investigation was also named as a participating party. On February 4, 2013, the Commission terminated the investigation with respect to Sierra. Notice (Feb. 4, 2013); see Order No. 17 (Jan. 15, 2013).

On November 13, 2012, Complainants filed a motion to amend the Complaint and NOI to remove Huawei North America as a respondent and to add Huawei Device Co., Ltd., Huawei Device USA Inc., and Futurewei Technologies, Inc. (collectively, “Proposed Respondents”) as respondents. On November 23, 2012, the Commission investigative staff filed a response in support of the motion. On November 26, 2012, Huawei and Proposed Respondents filed a response opposing the motion.

On January 8, 2013, the ALJ issued the subject ID, granting Complainants' motion to amend the Complaint and NOI pursuant to section 210.14(b)(1) of the Commission's Rules of Practice and Procedure (19 CFR 210.14(b)(1)). The ALJ found that good cause supported granting the motion because the public interest will be best served by the inclusion of all relevant parties in a single investigation. No petitions for review of this ID were filed.

The subject ID became the determination of the Commission on February 8, 2013, under section 210.42(h)(3) of the Commission's Rules of Practice and Procedure (19 CFR 210.42(h)(3)).

The authority for the Commission's determination is contained in section 337 of the Tariff Act of 1930, as amended (19 U.S.C. 1337), and in section 210.42 of the Commission's Rules of Practice and Procedure (19 CFR 210.42).

Issued: February 15, 2013.
By order of the Commission.
Lisa R. Barton,
Acting Secretary to the Commission.

[FR Doc. 2013-04068 Filed 2-21-13; 8:45 am]

BILLING CODE 7020-02-P